ENVIRONMENTAL PROTECTION AGENCY

[FRL-9773-6]

Proposed Settlement Agreement Pursuant to the Comprehensive Environmental Response, Compensation, and Liability Act of 1980, as Amended by the Superfund Amendments and Reauthorization Act of 1986; in Re: Bay State Plating and Polishing Inc., Superfund Site, Located in Lawrence, MA

AGENCY: U.S. Environmental Protection Agency (EPA).

ACTION: Notice of proposed settlement agreement; request for public comment.

SUMMARY: In accordance with the Comprehensive Environmental Response Compensation, and Liability Act, as amended (“CERCLA”), notice is hereby given of a Proposed Settlement Agreement under Section 122(h) of CERCLA, between the United States, on behalf of the U.S. Environmental Protection Agency (“EPA”) and Pacific Mills Acquisition, LLC (the “Settling Party”) with respect to the Bay State Plating and Polishing Inc. Superfund Site (the “Site”). EPA completed a removal action at the Site in 2005 incurring a total of approximately $600,500. Pursuant to the Proposed Settlement Agreement, the Settling Party agrees to pay EPA $300,000 in exchange for EPA to release a lien on property owned by the Settling Party. The Settling Party has demonstrated a limited ability to pay and this Proposed Settlement Agreement represents a fair and reasonable compromise of EPA's past costs.

For thirty (30) days following the date of publication of this notice, the Agency will receive written comments relating to the Proposed Settlement Agreement. EPA will consider all comments received and may modify or withdraw its consent to the Settlement Agreement if comments received disclose facts or considerations which indicate that the settlement is inappropriate, improper, or inadequate. EPA's response to any comments received will be available for public inspection at 5 Post Office Square, Boston, MA 02109.

DATES: Comments must be submitted on or before February 25, 2013.

ADDRESSES: A copy of the Proposed Settlement Agreement may be obtained from Ann Gardner, U.S. Environmental Protection Agency, Region I, 5 Post Office Square, Suite 100, Mail Code OES 4-4, Boston, Massachusetts 02109-3912, by calling (617) 918-1895 or by email at gardner.ann@epa.gov. Comments should be addressed to Ann Gardner at the above address and reference Bay State Plating and Polishing Inc. Superfund Site, U.S. EPA Docket No. CERCLA 01-2013-0009.

FOR FURTHER INFORMATION CONTACT: Ann Gardner, U.S. Environmental Protection Agency, Region I, 5 Post Office Square, Suite 100, Mail Code OES 4-4, Boston, Massachusetts 02109-3912 or via email at gardner.ann@epa.gov.

Dated: January 8, 2013.
James T. Owens, III,
Director, Office Site Remediation and Restoration, US EPA, Region I.

[FR Doc. 2013-01414 Filed 1-23-13; 8:45 am]

BILLING CODE 6560-50-P